ENVIRONMENTAL PROTECTION AGENCY

[FRL-9963-09-Region 10]

Public Water Supply Supervision Program; Program Revision for the State of Washington

AGENCY: Environmental Protection Agency (EPA).

ACTION: Notice of tentative approval.

SUMMARY: Notice is hereby given that the State of Washington has revised its approved State Public Water Supply Supervision Primacy Program. Washington has adopted regulations analogous to the Environmental Protection Agency's Revised Total Coliform Rule. EPA has determined that these revisions are no less stringent than the corresponding federal regulations. Therefore, EPA intends to approve these State program revisions. By approving these rules, EPA does not intend to affect the rights of federally recognized Indian tribes within “Indian country” as defined by 18 U.S.C. 1151, nor does it intend to limit existing rights of the State of Washington.

DATES: All interested parties may request a public hearing. A request for a public hearing must be submitted by July 6, 2017 to the Acting Regional Administrator at the EPA address shown below. Frivolous or insubstantial requests for a hearing may be denied by the Acting Regional Administrator. However, if a substantial request for a public hearing is made by July 6, 2017, a public hearing will be held. If no timely and appropriate request for a hearing is received and the Acting Regional Administrator does not elect to hold a hearing on his own motion, this determination shall become final and effective on July 6, 2017. Any request for a public hearing shall include the following information: (1) The name, address, and telephone number of the individual, organization, or other entity requesting a hearing; (2) a brief statement of the requesting person's interest in the Acting Regional Administrator's determination and a brief statement of the information that the requesting person intends to submit at such hearing; (3) the signature of the individual making the request, or, if the request is made on behalf of an organization or other entity, the signature of a responsible official of the organization or other entity.

ADDRESSES: All documents relating to this determination are available for inspection between the hours of 9:00 a.m. and 4:00 p.m., Monday through Friday, at the Washington Department of Health, Drinking Water Program, P.O. Box 47820, Olympia, Washington 98504 and between the hours of 9:00 a.m.-12:00 p.m. and 1:00-4:00 p.m. at the EPA Region 10 Library, 1200 Sixth Avenue, Seattle, Washington 98101. Copies of the documents which explain the rule can also be obtained at EPA's Web site at: https://www.federalregister.gov/articles/2013/02/13/2012-31205/national-primary-drinking-water-regulations-revisions-to-the-total-coliform-rule and https://www.federalregister.gov/articles/2014/02/26/2014-04173/national-primary-drinking-water-regulations-minor-corrections-to-the-revisions-to-the-total-coliform, or by writing or calling Ricardi Duvil, Ph.D. at the address below.

FOR FURTHER INFORMATION CONTACT: Ricardi Duvil, Ph.D., EPA Region 10, Drinking Water Unit, 1200 Sixth Avenue, Suite 900, OWW-193, Seattle, Washington 98101, telephone (206) 553-2578, email at duvil.ricardi@epa.gov.

SUPPLEMENTARY INFORMATION:

Authority: Section 1413 of the Safe Drinking Water Act, as amended (1996), and 40 CFR part 142 of the National Primary Drinking Water Regulations.

Dated: May 10, 2017.
Michelle L. Pirzadeh,
Acting Regional Administrator, Region 10.

[FR Doc. 2017-11705 Filed 6-5-17; 8:45 am]

BILLING CODE 6560-50-P